DEPARTMENT OF TRANSPORTATION

Pipeline and Hazardous Materials Safety Administration

[Docket No. PHMSA-2006-25026; Notice 1]

Pipeline Safety: Request for Waiver; Key West Pipeline Company

AGENCY: Pipeline and Hazardous Materials Safety Administration (PHMSA), U.S. Department of Transportation (DOT).

ACTION: Notice of intent to consider waiver request.

SUMMARY: PHMSA is seeking public comment on a waiver request from Key West Pipeline Company (KWPC) and Pipeline and Terminal Management Corporation (PTMC). KWPC and PTMC are requesting a waiver from the regulations governing the marking and depth of cover of burial requirements for underwater pipelines. Instead of marking and burying its pipeline as required under PHMSA regulations, KWPC and PTMC propose to post and maintain warning signs.

DATES: Persons interested in submitting written comments on the waiver request described in this notice must do so by November 15, 2006. Comments received after the due date may be considered at PHMSA's discretion.

ADDRESSES: You may submit written comments by mailing or delivering an original and two copies to the Dockets Facility, U.S. Department of Transportation (DOT), Room PL-401, 400 Seventh Street, SW., Washington, DC 20590-0001. The Dockets Facility is open from 9 a.m. to 5 p.m., Monday through Friday, except on Federal holidays when the facility is closed. Alternatively, you may submit written comments to the docket electronically at the following Web address: http://dms.dot.gov. All written comments should identify the docket and notice number stated in the heading of this document. Anyone who would like confirmation of mailed comments must include a self-addressed stamped postcard. To file written comments electronically, after logging on to http://dms.dot.gov, click on “Comment/Submissions.” You can also read comments and other materials in the docket. General information about the Federal pipeline safety program is available at http://phmsa.dot.gov.

Anyone is able to search the electronic form of all comments received into any of our dockets by the name of the individual submitting the comment (or signing the comment, if submitted on behalf of an association, business, labor union, etc.). You may review DOT's complete Privacy Act Statement in the Federal Register published on April 11, 2000 (65 FR 19477) or you may visit http://dms.dot.gov.

FOR FURTHER INFORMATION CONTACT: James Reynolds by telephone at 202-366-2786, by fax at 202-366-4566, by mail at DOT, Pipeline and Hazardous Materials Safety Administration (PHMSA), 400 7th Street, SW., Room 2103, Washington, DC 20590, or by e-mail at james.reynolds@dot.gov.

SUPPLEMENTARY INFORMATION:

Background

KWPC and PTMC, manager of KWPC's jet fuel receipt, storage, and pipeline operations in Key West, FL, request a waiver of compliance from the regulatory requirements of 49 CFR 195.413(c) (2) and (3).

Section 195.413(c)(2) requires an operator to promptly, but not later than 7 days after discovery, mark the location of its pipeline in accordance with 33 CFR Part 64 at the ends of the pipeline segment and at intervals of not over 500 yards (457 meters) long, except that a pipeline segment less than 200 yards (183 meters) long need only be marked at the center. The requested waiver would allow KWPC to install signs on the shoreline of Key West, FL and Fleming Key and on the bridge linking Key West, FL to Fleming Key. Moreover, the signs will identify the location of the pipeline as a restricted area and prohibit stopping or anchoring within 100 yards of the shoreline pursuant to 33 CFR 334.610.

Section 195.413(c)(3) requires an operator within 6 months after discovery, or no later than November 1 of the following year if the 6 month period is later than November 1 of the year of discovery, bury the pipeline so that the top of the pipe is 36 inches (914 millimeters) below the underwater natural bottom (as determined by recognized and generally accepted practices) for normal excavation or 18 inches (457 millimeters) for rock excavation. The requested waiver would allow KWPC's pipeline to exist exposed above the underwater natural bottom in Fleming Channel and require KWPC to inspect the pipeline on an annual basis.

On August 16-18, 2005, KWPC performed an inspection of the underwater segments of its pipeline. The underwater inspection concluded that less than 200 feet of KWPC's pipeline was partially or totally exposed above the underwater natural bottom in Fleming Channel, an inlet of the Gulf of Mexico.

The exposed segment is east of the bridge connecting Key West, FL to Fleming Channel and is located in waters that are approximately 11 feet deep at mean low water and approximately 13.5 feet deep at mean high water. The exposed segment lies immediately adjacent to the Trumbo Point Navel Annex, part of Naval Air Station—Key West (NASKW) military reservation. Both sides of Fleming Channel within the immediate vicinity of the exposed pipeline are bordered by the NASKW.

Upon discovering the exposed pipe on August 18, 2005, KWPC notified the National Response Center of the location and the geographic coordinates of the exposed pipeline. KWPC also met with the U.S. Coast Guard (USCG) on the same day to discuss suitable ways to mark the exposed pipeline in accordance with pipeline safety regulations and to prevent the markers from becoming a hazard to navigation in the active boating channel.

KWPC determined that marking the exposed pipeline in compliance with § 195.413(c)(2) and (3) created a hazard to navigation; therefore, KWPC proposed marking the exposed pipeline by placing a warning sign on the bridge crossing the channel, as well as installing two signs on the opposing sides of the waterway on NASKW property.

On August 19, 2005, KWPC submitted a written request to the USCG seeking approval of the marking proposal. In its proposal request to the USCG, KWPC noted that the potential for damage to the pipeline from recreational boaters is minimized because the pipeline is in an area where anchoring is prohibited, pursuant to 33 CFR 334.610.

In a letter dated September 6, 2005, the USCG responded to KWPC's proposal request and did not object to KWPC's proposed method of marking the exposed pipeline.

Request for Waiver

KWPC requests a waiver from § 195.413(c)(2) and (3) and asks that it be allowed to take the following actions:

(1) Install a sign on the shoreline of Key West, FL and Fleming Key immediately adjacent to the exposed pipeline segment, with the following information approved by the USCG—

Warning
Restricted Area
Transit Only
No Stopping or Anchoring
Within 100 Yards of Shore
Underwater Utility
33 CFR § 334.610

(2) Install a similar sign on the west side of the permanent bridge linking Key West, FL to Fleming Key.

(3) Inspect the exposed pipeline segment on an annual basis to confirm that there has been no material change in the condition of the exposed segment.

KWPC's exposed pipeline is located within the restricted waters of Fleming Channel. The U.S. Navy patrols the restricted waters of Fleming Channel to ensure that the waters are used for transient traffic as prescribed in 33 CFR 334.610.

Request for Public Comment

PHMSA will consider the KWPC and PTMC waiver request and whether the KWPC and PTMC proposal will yield an equivalent or greater degree of safety than what is currently provided by the regulations. This notice is PHMSA's only request for public comment before making a decision. After considering any comments received, PHMSA may grant the KWPC and PTMC waiver request as proposed, with modifications and conditions, or deny the request. If the waiver request is granted and PHMSA subsequently determines that the effect of the waiver is inconsistent with pipeline safety, PHMSA may impose additional conditions or revoke the waiver at its sole discretion.

Issued in Washington, DC on October 6, 2006.
Theodore L. Willke,
Acting Associate Administrator for Pipeline Safety.

[FR Doc. E6-17097 Filed 10-13-06; 8:45 am]

BILLING CODE 4910-60-P